CONSUMER PRODUCT SAFETY COMMISSION

[CPSC Docket No. CPSC-2010-0104]

16 CFR Part 1512

RIN 3041-AC95

Requirements for Bicycles

AGENCY: Consumer Product Safety Commission.

ACTION: Notice of proposed rulemaking.

SUMMARY: The Consumer Product Safety Commission (“CPSC,” “Commission,” or “we”) is proposing to amend its bicycle regulations. The proposed amendments would make minor changes to certain requirements to reflect the development of new technologies, designs, and features in bicycles and clarify that certain provisions or testing requirements do not apply to specific bicycles or bicycle parts. The proposal also would delete an outdated reference and correct typographical errors in the bicycle reflector performance test.

DATES: Comments on this proposed rule should be submitted by January 18, 2011.

ADDRESSES: You may submit comments, identified by Docket No. CPSC-2010-0104, by any of the following methods:

Electronic Submissions: Submit electronic comments in the following way:

Federal eRulemaking Portal: http://www.regulations.gov. Follow the instructions for submitting comments. To ensure timely processing of comments, the Commission is no longer accepting comments submitted by electronic mail (e-mail) except through http://www.regulations.gov.

Written Submissions: Submit written submissions in the following way:

Mail/Hand delivery/Courier (for paper, disk, or CD-ROM submissions) preferably in five copies, to: Office of the Secretary, U.S. Consumer Product Safety Commission, Room 820, 4330 East West Highway, Bethesda, MD 20814; telephone (301) 504-7923.

Instructions: All submissions received must include the agency name and docket number for this proposed rule. All comments received may be posted without change to http://www.regulations.gov, including any personal information provided. Do not submit confidential business information, trade secret information, or other sensitive or protected information (such as a Social Security Number) electronically; if furnished at all, such information should be submitted in writing.

Docket: For access to the docket to read background documents or comments received, go to http://www.regulations.gov.

FOR FURTHER INFORMATION CONTACT: Vincent J. Amodeo, Mechanical Engineer, Directorate for Engineering Sciences, U.S. Consumer Product Safety Commission, 4330 East West Highway, Bethesda, MD 20814; e-mail vamodeo@cpsc.gov; phone 301-504-7570.

SUPPLEMENTARY INFORMATION:

I. Background

CPSC regulations, at 16 CFR part 1512, establish requirements for bicycles pursuant to the Federal Hazardous Substances Act. The regulations were first promulgated in 1978 (43 FR 60034 (Dec. 22, 1978)), with minor amendments in 1980 (45 FR 82627 (Dec. 16, 1980)), 1981 (46 FR 3204 (Jan. 14, 1981)), 1995 (60 FR 62990 (Dec. 8, 1995)), and 2003 (68 FR 7073 (Feb. 12, 2003)); 68 FR 52691 (Sept. 5, 2003)).

In recent years, there have been technological changes in bicycle design and in the materials used to manufacture bicycles that have caused some bicycle manufacturers to question the applicability of a particular CPSC regulation or to seek changes to the regulations. Additionally, the enactment of the Consumer Product Safety Improvement Act of 2008 (CPSIA), Public Law 110-314, 122 Stat. 3016, has resulted in new testing and certification requirements for children's products and new limits on lead in children's products and on phthalates in children's toys.

The proposed rule would amend 16 CFR part 1512, which will clarify certain safety requirements for bicycles. The proposal would clarify that certain provisions or testing requirements do not apply to specific bicycles or bicycle parts, delete an outdated reference, and correct typographical errors in the bicycle reflector performance test.

The proposal also would facilitate the testing and certification required by section 14 of the Consumer Product Safety Act (CPSA), 15 U.S.C. 2063, as amended by section 102 of the CPSIA. Section 14 of the CPSA requires manufacturers and private labelers of a product subject to a CPSC rule, ban, standard, or regulation to certify compliance of the product with such rule, ban, standard, or regulation. Section 14(a)(1) of the CPSA requires that certifications for nonchildren's products be based on a test of each product or upon a reasonable testing program. Section 14(a)(2) of the CPSA requires that certifications for children's products be based on tests conducted by a CPSC-accepted third party conformity assessment body (also commonly referred to as a third party laboratory or simply as a laboratory). Under section 14(a)(3) of the CPSA, the requirement to third-party test children's products applies to products manufactured more than 90 days after the CPSC has established and published notice of the requirements for accreditation of third party conformity assessment bodies to assess conformity with a particular rule. In the Federal Register of September 2, 2009 (74 FR 45428), the CPSC published a notice of the requirements for accreditation of third party conformity assessment bodies to assess conformity with 16 CFR part 1512.

However, in the Federal Register of February 9, 2009 (74 FR 6396), the Commission published a notice announcing that it had stayed, for one year, the testing and certification requirements of section 14 of the CPSA as applied to 16 CFR part 1512, and most other CPSC regulations. The stay was intended to give the CPSC time to address many issues raised by the CPSIA's testing and certification requirements (Id. at 6397). Later, in the Federal Register of December 28, 2009 (74 FR 68588), the Commission published a notice that revised the terms of the stay. The Commission maintained the stay on the testing and certification requirements for the bicycle regulations until May 17, 2010, because there was insufficient laboratory capacity for third party testing of bicycles at that time (Id. at 68590). The Commission invited bicycle manufacturers and laboratories to petition the Commission for additional relief if the extension of the stay proved insufficient.

On April 1, 2010, the Bicycle Products Suppliers Association (BPSA), which describes itself as an association of suppliers of bicycles, parts, accessories, and services who serve the specialty bicycle retailer, petitioned the Commission for an additional extension of the stay. (The April 1, 2010, BPSA petition, along with all other correspondence discussed in this preamble, may be viewed at http://www.regulations.gov in the docket for this rulemaking.) The BPSA contended that there still was insufficient laboratory capacity to handle testing of children's bicycles. It also asserted that 16 CFR part 1512 is out of date in many respects, stated its understanding that the CPSC may commence rulemaking to revise part 1512 in the near future, and urged the Commission to begin such rulemaking. The BPSA suggested that the Commission maintain the stay on testing and certification of bicycles until such a rulemaking concludes, or for an additional year.

On May 3, 2010, CPSC staff met with representatives of the BPSA to discuss the petition. (A summary of the meeting may be found at http://www.cpsc.gov/library/foia/meetings/mtg10/bpsa102.pdf.) On June 17, 2010, the Commission published a notice in the Federal Register extending the stay on testing and certification requirements for bicycles until August 14, 2010, with two exceptions (75 FR 34360). First, because laboratory capacity, at that time, was still insufficient to assess compliance with the reflector requirements at 16 CFR 1512.16, the Commission extended the stay as it related to bicycle reflectors, until November 14, 2010 (Id.). The Commission allowed the additional three-month period for the development of CPSC-accepted laboratory capacity for bicycle reflector testing. Second, the Commission excluded bicycles with nonquill-type stems from the requirement to certify compliance with the handlebar stem insertion mark requirement at 16 CFR 1512.6(a); bicycles with nonquill-type stems may not be able to comply with the insertion mark requirement.

(A stem is the part of a bicycle that connects the handlebars to the “steerer” or upper part of the bicycle fork [the part of the bicycle that holds the front wheel and can turn to steer the bicycle]. A quill-type stem is a stem that is inserted into the steerer. Most older bicycles use a quill-type stem, but newer bicycles may use other means to connect the stem to the fork. For example, a “threadless” stem clamps onto the outside of the steerer [rather than having the stem go inside the steerer], and so we will refer to such other types of stems as “nonquill-type stems.”)

In its letter responding to the BPSA's petition, the Commission communicated its decision to extend the stay until August 14, 2010, with the two exceptions for reflector testing and stems. We stated that we are aware that 16 CFR part 1512 does not adequately address some new technologies, designs, or materials, and we asked that manufacturers who believe that they are unable to certify current designs to 16 CFR part 1512 provide the Commission with specific information regarding which provisions of the current regulation are problematic, which models or classes of bicycles are affected, and an explanation of the issue.

In response, on June 4, 2010, the BPSA sent a chart to the CPSC identifying areas in the bicycle regulations that the BPSA considered problematic for certification. This chart differed slightly from a chart that the BPSA had provided informally to CPSC staff earlier in 2010. We have considered both charts in the process of developing this proposed rule. (Both charts may be viewed at http://www.regulations.gov, in the docket for this rulemaking.)

We acknowledge that bicycle technologies, designs, and features have changed dramatically since 16 CFR part 1512 was originally promulgated. A comprehensive review of the bicycle regulations, however, cannot be accomplished in the timeframe that is necessary for implementing the testing and certification requirements of section 14 of the CPSA. Accordingly, this proposed rule would make only limited amendments to 16 CFR part 1512 to facilitate testing and certification of bicycles in accordance with section 14 of the CPSA. We will consider the remainder of the issues identified by the BPSA when we undertake a more extensive review of the bicycle regulations.

II. Description of the Proposed Rule

The proposed rule would amend six sections in 16 CFR part 1512.

A. Definitions (§ 1512.2)

1. Sidewalk Bicycles (§ 1512.2(b))

The existing regulation, at § 1512.2(b), defines a “sidewalk bicycle” as “a bicycle with a seat height of no more than 635 mm (25.0 in); the seat height is measured with the seat adjusted to its highest position.” The proposed rule would amend the definition of sidewalk bicycle by adding a sentence stating that recumbent bicycles are not considered sidewalk bicycles. Although some recumbent bicycles may have seats below the 635 millimeter height, recumbent bicycles do not share other features, or the intended riders, of sidewalk bicycles. Thus, the proposal would have the effect of clarifying which requirements are applicable to recumbent bicycles.

2. Track Bicycles (§ 1512.2(d))

The existing regulation, at § 1512.2(d), defines a “track bicycle” as “a bicycle designed and intended for sale as a competitive machine having tubular tires, single crank-to-wheel ratio, and no free-wheeling feature between the rear wheel and the crank.” Track bicycles are not subject to the requirements of 16 CFR part 1512, yet the proposed rule would amend the definition of track bicycle to clarify further which bicycles are not subject to the regulations. The proposed rule would add the word “velodrome” between “competitive” and “machine,” to clarify that a track bicycle is one intended for competitive velodrome racing. (A “velodrome” is an arena that has a banked track for bicycle racing.)

The proposed rule also would delete the term “tubular tires.” Improvements in clincher tires in recent years permit their use on track bicycles; therefore, a definition restricted to bicycles with tubular tires is no longer accurate. (In very general terms, clincher tires are the type of tires associated with most bicycles and feature an inner tube and an outer tire that makes contact with the rims of a bicycle wheel at each edge [called a “bead”]. Tubular tires, in contrast, do not have edges that contact the rim; instead, tubular tires are attached to the rims using glue or tape.)

3. Recumbent Bicycle (Proposed § 1512.2(g))

The proposed rule would create a new definition for recumbent bicycle at § 1512.2(g). The proposal would define a recumbent bicycle as “a bicycle in which the rider sits in a reclined position with the feet extended forward to the pedals.” We believe that a definition for recumbent bicycles is necessary because other provisions in this proposed rule would mention recumbent bicycles.¹

¹ While the staff briefing memoranda refer to recumbent bicycles as “adult bicycles” the proposed definition is not intended to distinguish between adult recumbent bicycles and children's recumbent bicycles.

B. Mechanical Requirements (§ 1512.4)

Section 1512.4 establishes various mechanical requirements for bicycles. Section 1512.4(b) prohibits “unfinished sheared metal edges or other sharp parts on bicycles that are, or may be, exposed to hands or legs.” The proposed rule would add the word, “assembled” before “bicycles,” to clarify that the prohibition on sharp edges does not apply to a bicycle still needing assembly when it is delivered to the consumer or retail store.

We also propose to correct a typographical error in paragraph (b) of section 1512.4. The wording should be, “burrs or spurs,” rather than, “burrs of spurs,” so that the final phrase reads, “so as to remove any feathering of edges, or any burrs or spurs caused during the shearing process.”

Section 1512.4(i) requires that the ends of all control cables have protective caps or otherwise be treated to prevent unraveling. The proposed rule would add the word “accessible” between the words “all” and “control cables,” to clarify that only accessible control cable ends are subject to the requirement regarding protective caps or prevention of unraveling. In other words, control cable ends housed within the bicycle frame or component would not need to be covered with protective caps or otherwise treated to prevent unraveling.

C. Requirements for Steering System (§ 1512.6)

Section 1512.6(a) requires that the bicycle handlebar stem have a permanent ring or mark to indicate the minimum insertion depth of the handlebar stem into the fork. It also requires that the insertion mark not affect the structural integrity of the stem, not be less than 2½ times the stem diameter from the lowest point of the stem, and that the stem strength be maintained for at least a length of one shaft diameter below the mark.

The proposed rule would change the opening words of paragraph (a) from “[t]he handlebar stem shall” to “[q]uill-type handlebar stems shall,” to clarify that this requirement only applies to bicycles having quill-type stems. Because nonquill-type stems do not get inserted into the stem, there is no need for them to have an insertion depth mark. This aspect of the proposal would codify the CPSC policy, announced in the June 17, 2010, stay notice, that nonquill-type stems would be excluded from the requirement to certify compliance with § 1512.6(a).

Section 1512.6(c) specifies that handlebars must allow comfortable and safe control of the bicycle and that handlebar ends be symmetrically located with respect to the longitudinal axis of the bicycle and “no more than 406 mm (16 in) above the seat surface when the seat is in its lowest position and the handlebar ends are in their highest position.” The proposed rule would create an exception for recumbent bicycles because the handlebars of recumbent bicycles may exceed this regulatory maximum, depending upon their design configuration.

D. Requirements for Wheel Hubs (§ 1512.12(b))

Section 1512.12(b) currently states that, with respect to quick-release devices, the quick-release clamp action “shall emboss the frame or fork when locked.” The proposed rule would create an exception for carbon fiber material. The requirement for a quick-release clamp action to emboss a frame or fork when locked is appropriate when bicycle frames are made using steel or aluminum. Modern technology, however, makes it possible to create bicycle frames using carbon fiber material. Carbon fiber is stronger than aluminum and steel, but embossing (or indenting) a carbon fiber frame or fork can weaken the material. To avoid such an illogical result (i.e., of intentionally weakening a carbon fiber frame or fork), the proposal would, instead, create an exception for carbon fiber material.

E. Requirements for Seat (§ 1512.15)

Section 1512.15 establishes various requirements for bicycle seats. Section 1512.15(a) imposes a limitation on seat height, stating that “[n]o part of the seat, seat supports, or accessories attached to the seat shall be more than 125 mm (5.0 in) above the top of the seat surface at the point where the seat surface is intersected by the seat post axis.”

Section 1512.15(b) requires seat posts to contain a “permanent mark or ring that clearly indicates the minimum insertion depth (maximum seat-height adjustment)” and that the mark not affect the structural integrity of the seat post. (A seat post is a post on which the bicycle seat or saddle rests; a traditional seat post is inserted into the bicycle frame and can be moved up or down to accommodate the rider's size.) Section 1512.15(b) also requires the mark to be “located no less than two seat-post diameters from the lowest point on the post shaft, and the post strength shall be maintained for at least a length of one shaft diameter below the mark.”

The proposed rule would create an exception for recumbent bicycles from the seat height limitation in § 1512.15(a). Recumbent bicycles are designed for reclined riding, so the seats on recumbent bicycles tend to have substantial seat backs. This exception would enable recumbent bicycles to retain their high seat-back design without being in violation of § 1512.15(a).

The proposed rule also would create an exception for bicycles with integrated seat masts from the requirement that seat posts contain a permanent mark or ring to indicate the minimum insertion depth. Integrated seat masts are part of the bicycle frame itself; thus, they do not get inserted in a seat post, and so no insertion depth mark is possible.

F. Tests and Test Procedures (§ 1512.18)

The CPSC, on its own initiative, is proposing two amendments to the test and test procedures section. First, the proposed rule would amend § 1512.18(k)(1)(i), which describes the procedure for conducting the fork test. The test procedure requires, in relevant part, that the load on the fork “be increased until a deflection of 64 mm (2½ in) is reached.” The test criteria, which are specified at § 1512.18(k)(1)(ii), explain that “[e]nergy of at least 39.5 J (350 in-lb) shall be absorbed with a deflection in the direction of the force of no more than 64 mm (2½ in.).” Thus, the fork test involves applying a load to the fork, and the fork must absorb the required energy while not deflecting more than 64 millimeters, or 2.5 inches.

The proposed rule would delete the last sentence of § 1512.18(k)(1)(i), regarding a deflection of 64 millimeters (2.5 inches), because § 1512.18(k)(1)(i) may be interpreted (incorrectly) as conflicting with § 1512.18(k)(1)(ii). In other words, a reader might construe the regulations as requiring force to be applied until the fork is deflected to 64 millimeters or 2.5 inches. Accordingly, to avoid any confusion, and because the fork test criteria accurately and adequately provides the substantive test requirements, the proposed rule would delete the last sentence of the description of the fork test procedure.

The proposed rule also would amend the reflector performance test description at § 1512.18(n)(2)(vii). The reflector performance test description discusses a coordinate system used for the reflector performance test and states that “[i]n the coordinate system and when illuminated by the source defined in table 4 of this part 1512, a reflector will be considered to be red if its color falls within the region bounded by the red spectrum locus and the lines y0.980 - - x and y0.335; a reflector will be considered to be amber if its color falls within the region bounded by the yellow spectrum locus and the lines y0.382, y0.790 - - 0.667x, and y x - - 0.120.” The y and x coordinates, as described in the rule, omitted important mathematical symbols or duplicated other mathematical symbols. The proposal would amend § 1512.18(n)(2)(vii) to read “[i]n the coordinate system and when illuminated by the source defined in table 4 of this part 1512, a reflector will be considered to be red if its color falls within the region bounded by the red spectrum locus and the lines y = 0.980 − x and y = 0.335; a reflector will be considered to be amber if its color falls within the region bounded by the yellow spectrum locus and the lines y = 0.382, y = 0.790 − 0.667x, and y = x − 0.120.”

Section 1512.18(n)(2)(vii) also refers to the “IES Lighting Handbook, fifth edition, 1972,” and a footnote to the rule explains that the IES Lighting Handbook may be obtained from the Illuminating Engineering Society (IES) and gives an address for IES. The reference to the IES Lighting Handbook is outdated, as is the address for the IES. More importantly, the recommended coordinate system for definition of color discussed in § 1512.18(n)(2)(vii), the “Internationale de l'Eclairage (CIE) 1931” system, is readily accessible for little or no cost from various sources in addition to the IES, including the Internet. Because the CIE 1931 color coordinate system is publicly available, the reference to the IES Lighting Handbook is not necessary, and therefore, the proposed rule would delete the reference to the IES Lighting Handbook and its accompanying footnote.

III. FHSA Regulatory Requirement: Preliminary Regulatory Analysis

Section 3(h) of the FHSA describes the procedural requirements for a proposed rule promulgated under section 2(q)(1) and section 3(e) of the FHSA, which are among the legal authorities for the CPSC's Requirements for Bicycles, 16 CFR part 1512. Section 3(h) requires a proposed FHSA rule to include a preliminary regulatory analysis. The preliminary regulatory analysis must include a preliminary description of the potential benefits and potential costs of the proposed regulation, including any benefits or costs that cannot be quantified in monetary terms, and an identification of those likely to receive the benefits and bear the costs. The preliminary regulatory analysis must include a discussion of the reasons why alternative or voluntary standards are not part of the proposed regulation. The preliminary regulatory analysis must also include a discussion of any reasonable alternatives to the proposed regulation.

This proposed rule does not propose new safety criteria or redefine the standard's acceptance criteria. Accordingly, an analysis of alternative or voluntary standards is not applicable. Due to the limited scope of these proposed amendments, the agency does not consider that there are any reasonable alternatives other than the technical amendments and exceptions being proposed.

The CPSC has analyzed the potential costs and benefits of the proposed rule; we expect there to be essentially no costs and modest benefits in the form of needed clarifications that will facilitate the testing and certification of bicycles. The proposed amendments would create exceptions to certain testing requirements, modify existing definitions to reflect current technology or changes in technology, clarify certain requirements, introduce a definition for recumbent bicycles, correct typographical errors, and delete an unnecessary and outdated reference. These changes are not expected to result in product modifications in order to comply, and do not require any additional testing or recordkeeping burdens. The clarifications and exceptions resulting from the proposed amendments could, in fact, result in modest cost savings to manufacturers in the form of more focused testing or the elimination of unnecessary testing.

IV. Regulatory Flexibility Act

The Regulatory Flexibility Act (RFA), 5 U.S.C. chapter 6, requires the agency to evaluate the economic impact of this proposed rule on small entities. The RFA defines small entities to include small businesses, small organizations, and small governmental jurisdictions. The small entities relevant to this proposed rule are small businesses. The agency must determine whether the proposed rule would impose a significant economic impact on a substantial number of small businesses.

The proposed rule will not have a significant economic impact. The proposed amendments would create exceptions to certain testing requirements, modify existing definitions to reflect current technology or changes in technology, clarify certain requirements, introduce a definition for recumbent bicycles, correct typographical errors, and delete an unnecessary and outdated reference. These changes are not expected to result in product modifications in order to comply and do not require any additional testing or recordkeeping burdens. The clarifications and exceptions resulting from the proposed amendments could result in modest cost savings to small businesses in the form of more focused testing or the elimination of unnecessary testing.

Accordingly, the Commission determines that the proposed rule will not have a significant economic effect on a substantial number of small entities.

V. Paperwork Reduction Act

The purposes of the Paperwork Reduction Act of 1995 (PRA), 44 U.S.C. 3501 et seq., include minimizing the paperwork burden on affected entities. The PRA requires certain actions before an agency can adopt or revise the collection of information, including publishing a summary of the collection of information and a brief description of the need for, and proposed use of, the information.

This proposed rule does not implicate the PRA, because there are no collection of information obligations associated with the proposed amendments to part 1512.

VI. Environmental Considerations

The proposed rule falls within the scope of the Commission's environmental review regulations at 16 CFR 1021.5(c)(1), which provide a categorical exclusion from any requirement for the agency to prepare an environmental assessment or environmental impact statement for amendments of rules or safety standards that provide design or performance requirements for products.

VII. Effective Date

The Commission proposes that any final rule based on this proposal become effective 30 days after its date of publication in the Federal Register.

List of Subjects in 16 CFR Part 1512

Bicycles, Consumer protection, Labeling.

For the reasons discussed in the preamble, the Consumer Product Safety Commission proposes to amend 16 CFR part 1512 as follows:

PART 1512—REQUIREMENTS FOR BICYCLES

1. The authority citation for part 1512 continues to read as follows:

Authority: Secs. 2(f)(1)(D), (q)(1)(A), (s), 3(e)(1), 74 Stat. 372, 374, 375, as amended, 80 Stat. 1304-05, 83 Stat. 187-89 (15 U.S.C. 1261, 1262); Pub. L. 107-319, 116 Stat. 2776.

2. Amend § 1512.2 by revising paragraphs (b) and (d) and adding paragraph (g) to read as follows:

§ 1512.2 Definitions.

* * * * *

(b) Sidewalk bicycle means a bicycle with a seat height of no more than 635 mm (25.0 in); the seat height is measured with the seat adjusted to its highest position. Recumbent bicycles are not included in this definition.

* * * * *

(d) Track bicycle means a bicycle designed and intended for sale as a competitive velodrome machine having single crank-to-wheel ratio, and no free-wheeling feature between the rear wheel and the crank.

* * * * *

(g) Recumbent bicycle means a bicycle in which the rider sits in a reclined position with the feet extended forward to the pedals.

3. Amend § 1512.4 by revising paragraphs (b) and (i) to read as follows:

§ 1512.4 Mechanical requirements.

* * * * *

(b) Sharp edges. There shall be no unfinished sheared metal edges or other sharp parts on assembled bicycles that are, or may be, exposed to hands or legs; sheared metal edges that are not rolled shall be finished so as to remove any feathering of edges, or any burrs or spurs caused during the shearing process.

* * * * *

(i) Control cable ends. Ends of all accessible control cables shall be provided with protective caps or otherwise treated to prevent unraveling. Protective caps shall be tested in accordance with the protective cap and end-mounted devices test, § 1512.18(c), and shall withstand a pull of 8.9 N (2.0 lbf).

* * * * *

4. Amend § 1512.6 by revising paragraphs (a) and (c) to read as follows:

§ 1512.6 Requirements for steering system.

(a) Handlebar stem insertion mark. Quill-type handlebar stems shall contain a permanent ring or mark which clearly indicates the minimum insertion depth of the handlebar stem into the fork assembly. The insertion mark shall not affect the structural integrity of the stem and shall not be less than 2½ times the stem diameter from the lowest point of the stem. The stem strength shall be maintained for at least a length of one shaft diameter below the mark.

* * * * *

(c) Handlebar. Handlebars shall allow comfortable and safe control of the bicycle. Handlebar ends shall be symmetrically located with respect to the longitudinal axis of the bicycle and no more than 406 mm (16 in) above the seat surface when the seat is in its lowest position and the handlebar ends are in their highest position. This requirement does not apply to recumbent bicycles.

* * * * *

5. Amend § 1512.12 by revising paragraph (b) to read as follows:

§ 1512.12 Requirements for wheel hubs.

* * * * *

(b) Quick-release devices. Lever-operated, quick-release devices shall be adjustable to allow setting the lever position for tightness. Quick-release levers shall be clearly visible to the rider and shall indicate whether the levers are in a locked or unlocked position. Quick-release clamp action shall emboss the frame or fork when locked, except on carbon fiber material.

* * * * *

6. Amend § 1512.15 by revising paragraphs (a) and (b) to read as follows:

§ 1512.15 Requirements for seat.

(a) Seat limitations. No part of the seat, seat supports, or accessories attached to the seat shall be more than 125 mm (5.0 in) above the top of the seat surface at the point where the seat surface is intersected by the seat post axis. This requirement does not apply to recumbent bicycles.

(b) Seat post. The seat post shall contain a permanent mark or ring that clearly indicates the minimum insertion depth (maximum seat-height adjustment); the mark shall not affect the structural integrity of the seat post. This mark shall be located no less than two seat-post diameters from the lowest point on the post shaft, and the post strength shall be maintained for at least a length of one shaft diameter below the mark. This requirement does not apply to bicycles with integrated seat masts.

* * * * *

7. Amend § 1512.18 by revising paragraphs (k)(1)(i) and (n)(2)(vii) as follows:

§ 1512.18 Tests and test procedures.

* * * * *

(k) * * *

(1) * * *

(i) Procedure. With the fork stem supported in a 76 mm (3.0 in) vee block and secured by the method illustrated in figure 1 of this part 1512, a load shall be applied at the axle attachment in a direction perpendicular to the centerline of the stem and against the direction of the rake. Load and deflection readings shall be recorded and plotted at the point of loading.

* * * * *

(n) * * *

(2) * * *

(vii) A recommended coordinate system for definition of color is the “Internationale de l'Eclairage (CIE 1931)” system. In the coordinate system and when illuminated by the source defined in table 4 of this part 1512, a reflector will be considered to be red if its color falls within the region bounded by the red spectrum locus and the lines y = 0.980 − x and y = 0.335; a reflector will be considered to be amber if its color falls within the region bounded by the yellow spectrum locus and the lines y = 0.382, y = 0.790 − 0.667x, and y = x − 0.120.

* * * * *

Dated: October 26, 2010.
Todd A. Stevenson,
Secretary, Consumer Product Safety Commission.

[FR Doc. 2010-27503 Filed 10-29-10; 8:45 am]

BILLING CODE 6355-01-P